Proclamation 10478 of October 14, 2022

National Character Counts Week, 2022

By the President of the United States of America

A Proclamation

During National Character Counts Week, we reflect on the highest standards of character—integrity, courage, empathy, decency, and respect—that lift each other up, bring our communities together, and make our Nation stronger.

Through simple acts of kindness and inspiring demonstrations of selflessness, we see the best of America's character every day. We see it in teachers who take extra time after school to practice reading with the students who are falling behind, in our scientists and essential workers who create and deliver life-saving products to people in need, and in our first responders who rush towards danger to save others no matter the cost as we have seen this month with Hurricane Ian. We see how character counts in our service members who give their all to protect the freedoms we hold so dear. Time and again, Americans prove that we are a great Nation because we are a good people.

Since coming into office, I have championed policies that reflect the values our Nation stands for at its best. In my State of the Union Address, I put forth a Unity Agenda to rally our Nation to beat the opioid epidemic, take on the mental health crisis, support our brave veterans and their families, and end cancer as we know it. I reaffirmed our Nation's commitment to standing against hate, racism, and bigotry by hosting a first-of-its kind “United We Stand” Summit at the White House and announcing new measures to counter hate-fueled violence. In September, my Administration released a national strategy to end hunger as we know it by 2030, a moral duty we all share. In everything we do, including rebuilding our economy and leaving no one behind, fighting climate change and protecting the health of our public and our planet, and reducing costs of every day issues talked about around the kitchen table—like prescription drugs, health care, and energy bills—we see how character counts in how we choose to see one another as fellow Americans and treat one another with the dignity and respect we all deserve.

Now as much as ever, as Americans confront new threats to our personal rights, the pursuit of justice, and the rule of law that try the very soul of this Nation, we must all strive even harder to remember that character counts. I believe in the character of the people of this Nation, and I have never been more optimistic about our future than I am today.

NOW, THEREFORE, I, JOSEPH R. BIDEN JR., President of the United States of America, by virtue of the authority vested in me by the Constitution and the laws of the United States, do hereby proclaim October 16 through October 22, 2022, as National Character Counts Week. Now and throughout the year, I encourage all Americans to engage in efforts that honor and express the best attributes of our character, extend the hand of fellowship to their neighbors, and unite in service to their communities.

IN WITNESS WHEREOF, I have hereunto set my hand this fourteenth day of October, in the year of our Lord two thousand twenty-two, and of the Independence of the United States of America the two hundred and forty-seventh.

[FR Doc. 2022-22829

Filed 10-18-22; 8:45 am]

Billing code 3395-F3-P